DEPARTMENT OF ENERGY

Federal Energy Regulatory Commission

[Docket No. RP97-288-031]

Transwestern Pipeline Company; Notice of Informational Report

April 23, 2003.

Take notice that on April 18, 2003, Transwestern Pipeline Company (Transwestern) tendered for filing an informational report.

On December 10, 2002, Transwestern states that it filed a stipulation and agreement (Settlement) in the above referenced dockets resolving all issues pending in these proceedings. The Commission issued a letter order dated January 31, 2003 (Order) accepting the Settlement as fair and reasonable and in the public interest.

Transwestern states that the Order directed Transwestern to make refunds consistent with the Settlement, and to file with the Commission a compliance refund report within thirty days of making such refund.

Transwestern states that it made refunds under Article II of the Settlement on March 14, 2003, and filed the applicable compliance refund report on April 9, 2003.

Transwestern states that it has determined, in accordance with the terms of the Settlement, that no refunds are payable with respect to Article III of the Settlement for Reliant Contract #27454, and that the instant filing is an informational report supporting the no refund obligation.

Any person desiring to protest said filing should file a protest with the Federal Energy Regulatory Commission, 888 First Street, NE., Washington, DC 20426, in accordance with section 385.211 of the Commission's Rules and Regulations. All such protests must be filed on or before the comment date below. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: April 30, 2003.

Magalie R. Salas,
Secretary.

[FR Doc. 03-10545 Filed 4-28-03; 8:45 am]

BILLING CODE 6717-01-P